DEPARTMENT OF AGRICULTURE

Forest Service

Hawaii Experimental Tropical Forest

AGENCY: Forest Service, USDA.

ACTION: Notice of Establishment.

SUMMARY: Pursuant to section 606(b) of the International Forestry Cooperation Act of 1990, as amended, the following lands in the State of Hawaii are designated as units of the Hawaii Experimental Tropical Forest:

1. Laupāhoehoe Experimental Forest Unit comprising approximately 12,343 acres on the Island of Hawaii, and

2. Pu'u Wa'awa'a Experimental Forest Unit comprising approximately 38,885 acres on the Island of Hawaii.

Research on these experimental forest units shall be administered in accordance with applicable laws and the Cooperative Agreement between the United States Department of Agriculture, Forest Service, and the State of Hawaii, Board of Land and Natural Resources, entered into on December 12, 2006.

DATES: This establishment is effective on the date of this notice.

FOR FURTHER INFORMATION CONTACT: J. Boone Kauffman, Director, Institute of Pacific Islands Forestry, Pacific Southwest Research Station, USDA Forest Service, 60 Nowelo Street, Hilo, Hawaii 96720. Phone: (808) 933-8121. E-mail: boonekauffman@fs.fed.us.

Individuals who use telecommunication devices for the deaf (TDD) may call the Federal Information Relay Service (FIRS) at 1-800-877-8339 between 8 a.m. and 8 p.m., Eastern Standard Time, Monday through Friday.

SUPPLEMENTARY INFORMATION: In 1992, Congress enacted the Hawaii Tropical Forest Recovery Act (Pub. L. 102-574). That enactment added section 606(b) to the International Forestry Cooperation Act of 1990 providing that, at the request of the Governor of Hawaii, the Secretary of Agriculture shall establish and administer in the State of Hawaii a Hawaii Experimental Tropical Forest to be managed for the purposes outlined in the Hawaii Tropical Forest Recovery Act. The Governor of Hawaii has requested the establishment of two units of an experimental tropical forest on State managed lands on the island of Hawaii. The Department of Agriculture, Forest Service, and the State of Hawaii, Board of Land and Natural Resources, have agreed on the conduct of cooperative research activities on the two units.

Dated: February 15, 2007.
Mike Johanns,
Secretary.

[FR Doc. E7-5302 Filed 3-22-07; 8:45 am]

BILLING CODE 3410-11-P